DEPARTMENT OF THE TREASURY

Open Meeting of the Financial Research Advisory Committee

AGENCY: Office of Financial Research, Department of the Treasury.

ACTION: Notice of open meeting; time change.

SUMMARY: The Financial Research Advisory Committee for the Treasury's Office of Financial Research (OFR) previously announced its 12th meeting to be held on Thursday, July 26, 2018, in the Benjamin Strong Room, Federal Reserve Bank of New York, 33 Liberty Street, New York, New York, 10045, beginning at 11:00 a.m. Eastern Time. By this notice, the OFR is changing the start time for the meeting to 1:00 p.m. Eastern Time. The meeting will be open to the public and limited seating will be available.

DATES: The meeting will be held on Thursday, July 26, 2018, beginning at 1:00 p.m. Eastern Time.

ADDRESSES: The meeting will be held in the Benjamin Strong Room, Federal Reserve Bank of New York, 33 Liberty Street, New York, New York, 10045. The meeting will be open to the public. A limited number of seats will be available for those interested in attending the meeting, and those seats would be on a first-come, first-served basis. Because the meeting will be held in a secured facility, members of the public who plan to attend the meeting MUST contact the OFR by email at OFR_FRAC@ofr.treasury.gov by 5 p.m. ET on Thursday, July 19, 2018, to inform the OFR of their desire to attend the meeting and receive further instructions about building clearance.

FOR FURTHER INFORMATION CONTACT: Melissa Avstreih, Designated Federal Officer, Office of Financial Research, Department of the Treasury, 1500 Pennsylvania Avenue NW, Washington, DC 20220, (202) 927-8032 (this is not a toll-free number), or OFR_FRAC@ofr.treasury.gov. Persons who have difficulty hearing or speaking may access this number via TTY by calling the toll-free Federal Relay Service at (800) 877-8339.

SUPPLEMENTARY INFORMATION: On July 2, 2018 (83 FR 31035), the OFR announced the 12th meeting of the Financial Research Advisory Committee. The OFR has had to change the start time for the meeting until 1:00 p.m. Eastern Time. All other information in the notice is unchanged, including the location and tentative agenda/topics for discussion.

Dated: July 3, 2018.
Barbara Shycoff,
Chief of External Affairs.

[FR Doc. 2018-14949 Filed 7-11-18; 8:45 am]

BILLING CODE 4810-25-P